DEPARTMENT OF THE INTERIOR

National Park Service

[NPS-SERO-NCPTT-27555; PPWOCRADS2][PCU00PT14.GT0000]

Request for Nominations for the Preservation Technology and Training Board

AGENCY: National Park Service, Interior.

ACTION: Request for nominations.

SUMMARY: The National Park Service (NPS), U.S. Department of the Interior, is requesting nominations for qualified persons to serve as members of the Preservation Technology and Training Board (Board).

DATES: Written nominations must be received by July 8, 2019.

ADDRESSES: Nominations should be sent to Kirk A. Cordell, Executive Director, National Center for Preservation Technology and Training, National Park Service, 645 University Parkway, Natchitoches, LA 71457, by telephone (318) 356-7444. In addition to U.S. mail or commercial delivery, nominations may be sent by fax to Mr. Cordell at (318) 356-9119, or submitted electronically on the center website: ncptt@nps.gov.

FOR FURTHER INFORMATION CONTACT: Kirk A. Cordell, Executive Director, National Center for Preservation Technology and Training, National Park Service, 645 University Parkway, Natchitoches, LA 71457, by telephone (318) 356-7444 or via email kirk_cordell@nps.gov.

SUPPLEMENTARY INFORMATION: Established within the Department of the Interior, the National Center for Preservation Technology and Training (Center) is located at Northwestern State University of Louisiana in Natchitoches, Louisiana. Title IV, section 404 of Public Law 102-575, October 30, 1992, established the Board to provide advice and professional oversight to the Secretary of the Interior and the Center regarding the activities of the Center and to submit an annual report to the President and the Congress.

The Board is comprised of 13 members appointed for 4-year terms, as follows: (a) One member serving as the Secretary's designee; (b) six members who represent appropriate Federal, State, and local agencies, State and local historic preservation commissions, and other public and international organizations; and (c) six members on the basis of outstanding professional qualifications who represent major organizations in the fields of archeology, architecture, conservation, curation, engineering, history, historic preservation, landscape architecture, planning, or preservation education.

We are currently seeking members in all categories.

Nominations should be typed and should include a resume providing an adequate description of the nominee's qualifications, including information that would enable the Department of the Interior to make an informed decision regarding meeting the membership requirements of the Board and permit the Department of the Interior to contact a potential member. All documentation, including letters of recommendations, must be compiled and submitted in one complete package. All those interested in membership, including current members whose terms are expiring, must follow the same nomination process.

Members of the Board serve without compensation. However, while away from their homes or regular places of business in the performance of services for the Board as approved by the Designated Federal Officer, members may be allowed travel expenses, including per diem in lieu of subsistence, in the same manner as persons employed intermittently in Government service are allowed such expenses under Section 5703 of Title 5 of the United States Code.

Public Disclosure of Comments: Before including your address, phone number, email address, or other personal identifying information in your nomination, you should be aware that your entire nomination—including your personal identifying information—may be made publicly available at any time. While you can ask us in your nomination to withhould your personal identifying information from public review, we cannot guarantee that we will be able to do so.

Authority: 5 U.S.C. Appendix 2.

Alma Ripps,
Chief, Office of Policy.

[FR Doc. 2019-12012 Filed 6-6-19; 8:45 am]

BILLING CODE 4312-52-P